DEPARTMENT OF THE INTERIOR

National Park Service

Notice of Inventory Completion for Native American Human Remains and Associated Funerary Objects in the Possession of the Peabody Museum of Archaeology and Ethnology, Harvard University, Cambridge, MA

AGENCY: National Park Service, Interior.

ACTION: Notice.

Notice is hereby given in accordance with provisions of the Native American Graves Protection and Repatriation Act (NAGPRA), 43 CFR 10.9, of the completion of an inventory of human remains and associated funerary objects in the possession of the Peabody Museum of Archaeology and Ethnology, Harvard University, Cambridge, MA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the Peabody Museum of Archaeology and Ethnology professional staff in consultation with representatives of the Klamath Indian Tribe of Oregon.

In 1891, human remains representing one individual were removed from the Klamath Reservation, Oregon by D.S. Moncrieff, who donated the human remains to the Peabody Museum of Archaeology and Ethnology in 1893. No known individual was identified. No associated funerary objects are present.

Museum documentation describes the human remains as “Snake.” Historical documents and consultation information indicate that the Yahooskin Band of Snake Indians occupied the area where the remains were collected during the 19th century, and that the Yahooskin Band of Snake Indians joined with the Klamath Indians on the Klamath Reservation beginning in 1864. The attribution of such specific cultural affiliation to the individual by the collector indicates that the interment belongs to the period that the area was occupied by the Snake people. Consultation information also confirms that the Yahooskin Band of Snake Indians shares a unified government with, and continues to be represented by, the Klamath Indian Tribe of Oregon.

Based on the above-mentioned information, officials of the Peabody Museum of Archaeology and Ethnology have determined that, pursuant to 43 CFR 10.2(d)(1), the human remains listed above represent the physical remains of one individual of Native American ancestry. Officials of the Peabody Museum of Archaeology and Ethnology have determined that, pursuant to 43 CFR 10.2 (e), there is a relationship of shared group identity that can be reasonably traced between these Native American human remains and the Klamath Indian Tribe of Oregon.

This notice has been sent to officials of the Klamath Indian Tribe of Oregon. Representatives of any other Indian tribe that believes itself to be culturally affiliated with these human remains should contact Barbara Isaac, Repatriation Coordinator, Peabody Museum of Archaeology and Ethnology, Harvard University, 11 Divinity Avenue, Cambridge, MA 02138, telephone (617) 495-2254, before November 13, 2000. Repatriation of the human remains to the Klamath Indian Tribe of Oregon may begin after that date if no additional claimants come forward.

Dated: October 4, 2000.
John Robbins,
Assistant Director, Cultural Resources, Stewardship and Partnerships.

[FR Doc. 00-26145 Filed 10-11-00; 8:45 am]

BILLING CODE 4310-70-P